DEPARTMENT OF LABOR

Employment and Training Administration

[TA-W-82,199]

Regal Beloit Corporation; Springfield, Missouri Division Including On-site Leased Workers From Penmac Personnel Services and GCA Services Group Springfield, Missouri; Amended Certification Regarding Eligibility to Apply for Worker Adjustment Assistance

In accordance with Section 223 of the Trade Act of 1974, as amended (“Act”), 19 U.S.C. 2273, the Department of Labor issued a Certification of Eligibility to Apply for Worker Adjustment Assistance on December 18, 2012, applicable to workers of Regal Beloit Corporation, Springfield, Missouri Division, including on-site leased workers from Penmac Personnel Services, Springfield, Missouri. The Department's notice of determination was published in the Federal Register on January 4, 2013 (Volume 78, FR page 781).

At the request of a state workforce office, the Department reviewed the certification for workers of the subject firm. The workers were engaged in the production of contributing parts- rotors, stators, endshields, shells, and shafts for 48Frame NEMA Electrics motors for the HVAC market.

The company reports that workers leased from GCA Services Group were employed on-site at the Springfield, Missouri location of Regal Beloit Corporation, Springfield, Missouri Division. The Department has determined that these workers were sufficiently under the control of the subject firm to be considered leased workers.

Based on these findings, the Department is amending this certification to include workers leased from GCA Services Group working on-site at the Springfield, Missouri location of Regal Beloit Corporation, Springfield, Missouri Division.

The amended notice applicable to TA-W-82,199 is hereby issued as follows:

“All workers of GCA Services Group, reporting to Regal Beloit Corporation, Springfield, Missouri Division, including on-site leased workers from Penmac Personnel Services, Springfield, Missouri, who became totally or partially separated from employment on or after November 30, 2011, through December 18, 2014, and all workers in the group threatened with total or partial separation from employment on the date of certification through two years from the date of certification, are eligible to apply for adjustment assistance under Chapter 2 of Title II of the Trade Act of 1974, as amended.”

Signed in Washington, DC this 14th day of August, 2013.
Michael W. Jaffe,
Certifying Officer, Office of Trade Adjustment Assistance.

[FR Doc. 2013-20810 Filed 8-26-13; 8:45 am]

BILLING CODE 4510-FN-P